DEPARTMENT OF THE INTERIOR

National Park Service

Policy on Cooperating Associations, Draft Director's Order #32

AGENCY: National Park Service, Department of the Interior.

ACTION: Notice of availability and request for comments.

SUMMARY: The National Park Service (NPS) is requesting comments on revision of its policy governing nonprofit partners operating under a cooperating association (Association) agreement. This policy will apply to all units of the national park system, and will replace the previous policy which was issued in March 1998.

Director's Order #32: Cooperating Associations has been updated to reflect the findings and recommendations of the Cooperating Association Steering Committee submitted to the National Leadership Council in August 2009. These recommendations include as follows:

• The primary purpose of Cooperating Associations is to provide support to NPS through the sale and publication of interpretive materials and text.

• While nonprofit organizations may engage in different roles with NPS, Cooperating Association activities are those guided by the Cooperating Association Agreement while other roles may be guided by separate legal instrument(s).

DATES: Comments must be received by February 26, 2010.

ADDRESSES: The Draft Director's Order #32 is available for public inspection online at http://www.nps.gov/policy/DO-32Draft.pdf. Requests for printed copies and written comments should be sent to Rose Fennell, NPS Servicewide Cooperating Association Coordinator, 1849 C Street NW. (2450), Washington, DC 20240 or to the Internet address: rose_fennell@nps.gov. Please include “Comments on Director's Order #32” in the e-mail subject line.

FOR FURTHER INFORMATION CONTACT: Rose Fennell at (202) 513-7143.

SUPPLEMENTARY INFORMATION: Director's Order #32 (DO-32) is a policy intended to govern the internal management of the NPS as it relates to working with Associations. It will cover topics associated with the cooperating association program such as: legal authorities for Association activities; the standard Cooperating Association Agreement; responsibilities of NPS and Association staff; planning, sales activities, facilities and equipment; administrative requirements; fundraising and donations acceptance by Associations; and, aid to NPS. This new revision of DO-32 will replace the existing one, originally published in March 1998. The reference manual (RM-32) will be revised to outline procedures for implementation of the new version of DO-32.

Before including your address, phone number, e-mail address, or other personal identifying information in your comment, you should be aware that your entire comment—including your personal identifying information—may be made publicly available at any time. While you can ask us in your comment to withhold your personal identifying information from public review, we cannot guarantee that we will be able to do so.

Dated January 18, 2010.
Christopher K. Jarvi,
Associate Director, Partnerships and Visitor Experience.

[FR Doc. 2010-1566 Filed 1-26-10; 8:45 a.m.]

BILLING CODE 4312-52-P